DEPARTMENT OF COMMERCE

National Oceanic and Atmospheric Administration

[I.D. 080204F]

Fisheries of the Gulf of Mexico; Reef Fish Resources of the Gulf of Mexico; Draft Amendment 26 to the Fishery Management Plan (FMP) for the Reef Fish Resources of the Gulf of Mexico; Individual Fishing Quota (IFQ) Program and Vessel Monitoring System (VMS) Requirement; Commercial Red Snapper Fishery; Scoping Meetings

AGENCY: National Marine Fisheries Service (NMFS), National Oceanic and Atmospheric Administration (NOAA), Commerce.

ACTION: Notice of intent; notice of scoping meetings; request for comments.

SUMMARY: The Gulf of Mexico Fishery Management Council (Council) intends to prepare a draft supplemental environmental impact statement (DSEIS) in support of proposed Amendment 26 to the Reef Fish FMP (Red Snapper IFQ Amendment). The DSEIS will evaluate alternatives for actions that would establish an IFQ program and set forth a VMS requirement for the commercial red snapper fishery. The purpose of this notice of intent is to solicit public comments on the scope of the issues to be addressed in the DSEIS.

DATES: Ten scoping meetings will be held throughout the Gulf region during August 2004. See SUPPLEMENTARY INFORMATION for specific dates, locations, and times.

Written comments must be received in the Council's office (see ADDRESSES) by 5 p.m., September 9, 2004.

ADDRESSES: See SUPPLEMENTARY INFORMATION for specific locations, times, and dates.

Written comments on the scope of the DSEIS and requests for the Scoping Document may be directed to the Gulf of Mexico Fishery Management Council, The Commons at Rivergate, 3018 U.S. Highway 301 North, Suite 1000, Tampa, FL 33619; telephone: 813-228-2815; fax: 813-225-7015. Comments may also be submitted via e-mail to redsnapper.IFQ@noaa.gov. Include in the subject line the following document identifier: Red Snapper IFQ Amendment.

Scoping documents (IFQ Profile Scoping Document for an IFQ and System for the Gulf of Mexico Commercial Red Snapper Fishery) are available to download at http://www.gulfcouncil.org.

FOR FURTHER INFORMATION CONTACT: Wayne Swingle; phone: 813-228-2815; fax: 813-225-7015; e-mail: Wayne.Swingle@gulfcouncil.org or Phil Steele; phone: 727-570-5305; fax: 727-570-5583; e-mail: Phil.Steele@noaa.gov or visit the Council's web page at: http://www.gulfcouncil.org.

SUPPLEMENTARY INFORMATION: The Council intends to prepare a DSEIS in support of the Red Snapper IFQ Amendment to evaluate actions that would establish an IFQ program and a VMS requirement in the commercial red snapper fishery. Alternatives considered under the IFQ action are described in the Council's IFQ Profile document under the following categories: IFQ structure; initial allocation of IFQ shares and annual coupons; ownership and transfer controls; monitoring and transfers of IFQ share certificates and annual coupons; and appeals process. Alternatives considered under the VMS action are described in the Council's Scoping Document for an IFQ System for the Gulf of Mexico Commercial Red Snapper Fishery (see ADDRESSES for information on obtaining the IFQ profile and scoping document). In addition to requiring (or not requiring) the use of VMS on commercial vessels harvesting red snapper, these alternatives would establish whether NMFS or vessel owners would be responsible for the costs of VMS devices.

The Council is soliciting public comment on the range of alternatives and scope of issues that should be considered under the IFQ and VMS actions. Scoping documents will be mailed to persons with commercial red snapper licenses. Others may request these documents from the Council (see ADDRESSES for contact information).

Additionally, 10 scoping hearings will be held at the following locations and dates beginning at 7 p.m. and concluding no later than 10 p.m.:

1. Wednesday, August 11, 2004, Harrah's Lake Charles Casino Hotel, 505 North Lakeshore Drive, Lake Charles, LA 70601; telephone: 337-437-1546;

2. Thursday, August 12, 2004, Holiday Inn Houma, 210 South Hollywood Road, Houma, LA 70360; telephone: 877-800-9383;

3. Friday, August 13, 2004, New Orleans Airport Hilton, 901 Airline Drive, Kenner, LA 70062; telephone: 504-469-5000;

4. Monday, August 16, 2004, Holiday Inn Emerald Beach, 1102 South Shoreline Boulevard, Corpus Christi, TX 78401; telephone: 361-883-5731;

5. Tuesday, August 17, 2004, Palacios Recreation Center, 2401 Perryman, Palacios, TX 77465; telephone: 361-972-2387;

6. Wednesday, August 18, 2004, San Luis Resort, 5222 Seawall Boulevard, Galveston Island, TX 77551; telephone: 409-740-8616;

7. Monday, August 23, 2004, MS Department of Marine Resources, 1141 Bayview Drive, Biloxi, MS 39530; telephone: 228-374-5000;

8. Tuesday, August 24, 2004, Perdido Beach Resort, 27200 Perdido Beach Boulevard, Orange Beach, AL 36561; telephone: 251-981-9811;

9. Monday, August 30, 2004, National Marine Fisheries Service, 3500 Delwood Beach Road, Panama City, FL 32408; telephone: 850-234-6541; and

10. Tuesday, August 31, 2004, Radisson Bay Harbor Hotel, 7700 Courtney Campbell Causeway, Tampa, FL 33607; telephone: 813-281-8900.

These meetings will be physically accessible to people with disabilities. Requests for sign language interpretation or other auxiliary aids should be directed to Dawn Aring at the Council (see ADDRESSES).

The completed DSEIS associated with the Draft Red Snapper IFQ Amendment will be filed with the U.S. Environmental Protection Agency, announced in the Federal Register, and open to public comment for 45-day period. This procedure is pursuant to regulations issued by the Council on Environmental Quality (CEQ) for implementing the National Environmental Policy Act (NEPA) (and to NOAA's Administrative Order 216-6 regarding NOAA's compliance with NEPA and the CEQ regulations).

The Council will consider public comments received on the DSEIS in developing the final supplemental environmental impact statement (FSEIS), and before taking final action on the Red Snapper IFQ Amendment. The Council will submit both the final Amendment and the supporting FSEIS to NMFS for conduction of the referendum, Secretarial review, approval, and implementation under the requirements of the Magnuson-Stevens Fishery Conservation and Management Act.

NMFS will announce, through a notice published in the Federal Register, the availability of the final Red Snapper IFQ Amendment for public review during the Secretarial review period. During Secretarial review, NMFS will also file the FSEIS with the EPA for a final 30-day public comment period. This comment period will be concurrent with the Secretarial review period and will end prior to final agency action to approve, disapprove, or partially approve the final Red Snapper IFQ Amendment.

NMFS will announce, through a notice published in the Federal Register, all public comment periods on the final Red Snapper IFQ Amendment, its proposed implementing regulations, and its associated FSEIS. NMFS will consider all public comments received during the Secretarial review period, whether they are or are not on the final Amendment, the proposed regulations, or the FSEIS, prior to final agency action.

Dated: August 4, 2004.
Alan D. Risenhoover,
Acting Director, Office of Sustainable Fisheries, National Marine Fisheries Service.

[FR Doc. 04-18253 Filed 8-9-04; 8:45 am]

BILLING CODE 3510-22-S